DEPARTMENT OF COMMERCE

National Oceanic and Atmospheric Administration

RIN 0648-XE229

Fisheries of the South Atlantic; South Atlantic Fishery Management Council; Public Meeting

AGENCY: National Marine Fisheries Service (NMFS), National Oceanic and Atmospheric Administration (NOAA), Commerce.

ACTION: Notice of a public meeting.

SUMMARY: The Council will hold a meeting of its Scientific and Statistical Committee (SSC) in N. Charleston, SC. See SUPPLEMENTARY INFORMATION.

DATES: The SSC will meet 1 p.m.-5 p.m., Tuesday, October 20, 2015; 8:30 a.m.-5 p.m., Wednesday, October 21, 2015; and 8:30 a.m.-3 p.m., Thursday, October 22, 2015.

ADDRESSES: The meeting will be held at the Crowne Plaza Airport Hotel, 4831 Tanger Outlet Boulevard, North Charleston, SC 29418; phone: (800) 503-5762 or (843) 744-4422; fax: (843) 744-4472.

Council address: South Atlantic Fishery Management Council, 4055 Faber Place Drive, Suite 201, N. Charleston, SC 29405.

FOR FURTHER INFORMATION CONTACT: Kim Iverson, Public Information Officer, 4055 Faber Place Drive, Suite 201, North Charleston, SC 29405; phone: (843) 571-4366 or toll free (866) SAFMC-10; fax: (843) 769-4520; email: kim.iverson@safmc.net.

SUPPLEMENTARY INFORMATION: The following items will be discussed and considered by the SSC during this meeting:

1. Review South Atlantic landings and Annual Catch Limits (ACLs)

2. Consider units for fishing level recommendations

3. Review final Southeast headboat survey data evaluation

4. Southeast Data, Assessment and Review (SEDAR) projects update, including report on the Data Best Practices Workshop and September 2015 Steering Committee meeting

5. Council Citizen Science update

6. Review Snapper-Grouper Amendments 36, 37, and Regulatory Amendment 16

7. Review the Council's System Management Plan

8. Report on recreational catch estimation for rare species

9. SSC Acceptable Biological Catch (ABC) Control Rule revision progress report

10. Review the Council's Research Priorities Plan

11. Review NOAA Fisheries' Stock Prioritization Tool

12. Consider the Blueline Tilefish stock assessment and fishing levels

13. Review Hogfish projections and fishing level recommendations

14. Receive progress reports on ongoing fishery management plans and amendments

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the intent to take final action to address the emergency.

Written comment on SSC agenda topics is to be distributed to the Committee through the Council office, similar to all other briefing materials. Written comment to be considered by the SSC shall be provided to the Council office no later than one week prior to an SSC meeting. For this meeting, the deadline for submission of written comment is 12 p.m., Tuesday, April 21, 2015. Two opportunities for comment on agenda items will be provided during SSC meetings and noted on the agenda. The first will be at the beginning of the meeting, and the second near the conclusion, when the SSC reviews its recommendations.

Special Accommodations

This meeting is accessible to people with disabilities. Requests for auxiliary aids should be directed to the SAFMC office (see ADDRESSES) at least 10 business days prior to the meeting.

Note: The times and sequence specified in this agenda are subject to change.

Authority: 16 U.S.C. 1801 et seq.

Dated: September 30, 2015.
Tracey L. Thompson,
Acting Deputy Director, Office of Sustainable Fisheries, National Marine Fisheries Service.

[FR Doc. 2015-25242 Filed 10-2-15; 8:45 am]

BILLING CODE 3510-22-P